DEPARTMENT OF COMMERCE

National Oceanic and Atmospheric Administration

RIN 0648-XD367

Endangered and Threatened Species; Recovery Plans

AGENCY: National Marine Fisheries Service (NMFS), National Oceanic and Atmospheric Administration, Commerce.

ACTION: Notice of availability; request for comments.

SUMMARY: We, NMFS, announce that the Proposed Endangered Species Act (ESA) Recovery Plan for Snake River Sockeye Salmon (Proposed Plan) is available for public review and comment. The Proposed Plan addresses the Snake River Sockeye Salmon (Onchorhynchus nerka) evolutionarily significant unit (ESU) listed as endangered under the ESA. The geographic area covered by the Proposed Plan is the Sawtooth Valley in Idaho including the Upper Salmon River and its tributaries, Stanley Lake, Redfish Lake, Yellowbelly Lake, Pettit Lake, and Alturas Lake. As required under the ESA, the Proposed Plan contains objective, measurable delisting criteria, site-specific management actions necessary to achieve the Proposed Plan's goals, and estimates of the time and costs required to implement recovery actions. We are soliciting review and comment from the public and all interested parties on the Proposed Plan.

DATES: We will consider and address, as appropriate, all substantive comments received during the comment period. Comments on the Proposed Plan must be received no later than 5 p.m. Pacific daylight time on September 19, 2014.

ADDRESSES: Please send written comments and materials to Rosemary Furfey, National Marine Fisheries Service, 1201 NE Lloyd Boulevard, Suite 1100, Portland, OR 97232. Comments may also be submitted by email to: nmfs.wcr.snakeriversockeyeplan@noaa.gov. Please include “Comments on Snake River Sockeye Salmon Recovery Plan” in the subject line of the email. Comments may be submitted via facsimile (fax) to (503) 230-5441. Electronic copies of the Proposed Plan are available on the NMFS Web site at http://www.westcoast.fisheries.noaa.gov/protected_species/salmon_steelhead/recovery_planning_and_implementation/snake_river/snake_river_salmon_recovery_subdomain.html. Persons wishing to obtain an electronic copy on CD-ROM of the Proposed Plan may do so by calling Marcella LaFayette at (503) 231-2202 or by emailing a request to marcella.lafayette@noaa.gov with the subject line “CD-ROM Request for Snake River Sockeye Salmon Recovery Plan.”

FOR FURTHER INFORMATION CONTACT: Rosemary Furfey, NMFS Snake River Sockeye Salmon Recovery Coordinator, at (503) 231-2149, or rosemary.furfey@noaa.gov.

SUPPLEMENTARY INFORMATION:

Background

We are responsible for developing and implementing recovery plans for Pacific salmon and steelhead listed under the ESA of 1973, as amended (16 U.S.C. 1531 et seq.). Recovery means that the listed species and their ecosystems are sufficiently restored, and their future secured, to the point that the protections of the ESA are no longer necessary. Section 4(f)(1) of the ESA requires that recovery plans include, to the extent practicable: (1) Objective, measurable criteria which, when met, would result in a determination that the species is no longer threatened or endangered; (2) site-specific management actions necessary to achieve the plan's goals; and (3) estimates of the time required and costs to implement recovery actions. The ESA requires the development of recovery plans for each listed species unless such a plan would not promote its recovery.

We believe it is essential to have local support of recovery plans by those whose activities directly affect the listed species and whose continued commitment and leadership will be needed to implement the necessary recovery actions. We therefore support and participate in locally led, collaborative efforts to develop recovery plans that involve state, tribal, and federal entities, local communities, and other stakeholders. For this Proposed Plan for endangered Snake River Sockeye Salmon, we worked collaboratively with local state, tribal, and Federal partners to produce a recovery plan that satisfies the ESA requirements. We have determined that this Proposed ESA Recovery Plan for Snake River Sockeye Salmon meets the statutory requirements for a recovery plan and are proposing to adopt it as the ESA recovery plan for this endangered species. Section 4(f) of the ESA, as amended in 1988, requires that public notice and an opportunity for public review and comment be provided prior to final approval of a recovery plan. This notice solicits comments on this Proposed Plan.

Development of the Proposed Plan

For the purpose of recovery planning for the ESA-listed species of Pacific salmon and steelhead in Idaho, Oregon and Washington, NMFS designated five geographically based “recovery domains.” The Snake River Sockeye Salmon ESU spawning range is in the Interior Columbia domain. For each domain, NMFS appointed a team of scientists, nominated for their geographic and species expertise, to provide a solid scientific foundation for recovery plans. The Interior Columbia Technical Recovery Team included biologists from NMFS, other federal agencies, states, tribes, and academic institutions.

A primary task for the Interior Columbia Technical Recovery Team was to recommend criteria for determining when each component population with an ESU or distinct population segment (DPS) should be considered viable (i.e., when they are have a low risk of extinction over a 100-year period) and when ESUs or DPSs have a risk of extinction consistent with no longer needing the protections of the ESA. All Technical Recovery Teams used the same biological principles for developing their recommendations; these principles are described in the NOAA technical memorandum Viable Salmonid Populations and the Recovery of Evolutionarily Significant Units (McElhany et al., 2000). Viable salmonid populations (VSP) are defined in terms of four parameters: Abundance, productivity or growth rate, spatial structure, and diversity.

For this Proposed Plan, we collaborated with state, tribal and federal biologists and resource managers to provide technical information that NMFS used to write the Proposed Plan which is built upon locally-led recovery efforts. In addition, NMFS established a multi-state (Idaho, Oregon and Washington), tribal and federal partners' regional forum called the Snake River Coordination Group that addresses the four ESA-listed Snake River salmon and steelhead species. They met twice a year to be briefed and provide technical and policy information to NMFS. We presented regular updates on the status of this Proposed Plan to the Snake River Coordination Group and posted draft chapters on NMFS' West Coast Region Snake River recovery planning Web page.

In addition to the Proposed Plan, we developed and incorporated the Module for the Ocean Environment (Fresh et al. 2014) as Appendix B to address Snake River Sockeye Salmon recovery needs in the Columbia River estuary, plume, and Pacific Ocean. To address recovery needs related to the Lower Columbia River mainstem and estuary, we incorporated the Columbia Estuary ESA Recovery Plan Module (NMFS 2011) as Appendix C. To address recovery needs for fishery harvest management in the Salmon, Snake and Columbia Rivers mainstem, Columbia River estuary and ocean, we developed and incorporated the Harvest Module (NMFS 2014a) as Appendix D. To address recovery needs related to the Columbia River Hydropower System, we developed and incorporated the Supplemental Recovery Plan Module for Snake River Salmon and Steelhead Mainstem Columbia River Hydropower Projects (NMFS 2014b) as Appendix E of this Proposed Plan.

The Proposed Plan, including the recovery plan modules, is now available for public review and comment.

Contents of Proposed Plan

The Proposed Plan contains biological background and contextual information that includes description of the ESU, the planning area, and the context of the plan's development. It presents relevant information on ESU structure, guidelines for assessing salmonid population and ESU-level status, and a brief summary of Interior Columbia Technical Recovery Team products on population structure and species status. It also presents NMFS' proposed biological viability criteria and threats criteria for delisting.

The Proposed Plan also describes specific information on the following: Current status of Snake River Sockeye Salmon; limiting factors and threats for the full life cycle that contributed to the species decline; recovery strategies and actions addressing these limiting factors and threats; key information needs, and a proposed research, monitoring, and evaluation program for adaptive management. For recovery actions, the Proposed Plan includes a table summarizing each proposed action, together with the associated location, life stage affected, estimated costs, timing and potential implementing entity. It also describes how implementation, prioritization of actions, and adaptive management will proceed at the population and ESU scales. The Proposed Plan also summarizes time and costs (Section 9 and Appendix A) required to implement recovery actions. In addition to the information in the Proposed Plan, readers are referred to the recovery plan modules (Appendices B-E) for more information on all these topics.

How NMFS and Others Expect To Use the Plan

With approval of the final Plan, we will commit to implement the actions in the Plan for which we have authority and funding; encourage other federal and state agencies and tribal governments to implement recovery actions for which they have responsibility, authority and funding; and work cooperatively with the public and local stakeholders on implementation of other actions. We expect the Plan to guide us and other federal agencies in evaluating federal actions under ESA section 7, as well as in implementing other provisions of the ESA and other statutes. For example, the Plan will provide greater biological context for evaluating the effects that a proposed action may have on a species by providing delisting criteria, information on priority areas for addressing specific limiting factors, and information on how future populations within the ESU can tolerate varying levels of risk.

When we are considering a species for delisting, the agency will examine whether the section 4(a)(1) listing factors have been addressed. To assist in this examination, we will use the delisting criteria described in Section 3.3 of the Proposed Plan, which include both biological criteria and criteria addressing each of the ESA section 4(a)(1) listing factors, as well as any other relevant data and policy considerations.

We will also work with the proposed Snake River Sockeye Salmon Implementation and Science Team described in Section 10 of the Proposed Plan to develop implementation schedules that provide greater specificity for recovery actions to be implemented over three-to five-year periods. This Team will also help promote implementation of recovery actions and subsequent implementation schedules, and will track and report on implementation progress. The Implementation and Science Team, working together with NMFS staff, will coordinate the implementation of recovery actions among federal, state, tribal entities and local stakeholders.

Conclusion

Section 4(f)(1)(B) of the ESA requires that recovery plans incorporate, to the extent practicable, (1) objective, measurable criteria which, when met, would result in a determination that the species is no longer threatened or endangered; (2) site-specific management actions necessary to achieve the plan's goals; and (3) estimates of the time required and costs to implement recovery actions. We conclude that the Proposed Plan meets the requirements of ESA section 4(f) and are proposing to adopt it as the ESA Recovery Plan for Snake River Sockeye Salmon.

Public Comments Solicited

We are soliciting written comments on the Proposed Plan. All substantive comments received by the date specified above will be considered and incorporated, as appropriate, prior to our decision whether to approve the plan. We will issue a news release announcing the adoption and availability of the final plan. We will post on the NMFS West Coast Region Web site (www.wcr.noaa.gov) a summary of, and responses to, the comments received, along with electronic copies of the final plan and its appendices.

Literature Cited

McElhany, P., M.H. Ruckelshaus, M.J. Ford, T.C. Wainwright, and E.P. Bjorkstedt. 2000. Viable salmon populations and the recovery of evolutionarily significant units. U.S. Dept. of Commerce, NOAA Tech. Memo., NMFS NWFSC 42, 156 p.

National Marine Fisheries Service (NMFS). 2011. Columbia River Estuary ESA Recovery Plan Module for Salmon and Steelhead. Northwest Region. January 2011. Available at: http://www.westcoast.fisheries.noaa.gov/protected_species/salmon_steelhead/recovery_planning_and_implementation/lower_columbia_river/lower_columbia_river_recovery_plan_for_salmon_steelhead.html.

Authority: 16 U.S.C. 1531 et seq.

Dated: July 14, 2014.
Angela Somma,
Chief, Endangered Species Conservation Division, Office of Protected Resources, National Marine Fisheries Service.

[FR Doc. 2014-17023 Filed 7-18-14; 8:45 am]

BILLING CODE 3510-22-P